DEPARTMENT OF COMMERCE

International Trade Administration

[A-533-820]

Certain Hot-Rolled Carbon Steel Flat Products from India: Notice of Preliminary Results of Antidumping Duty Administrative Review

AGENCY: Import Administration, International Trade Administration, Department of Commerce.

SUMMARY: In response to requests from petitioners¹ and respondents,² the Department of Commerce (the Department) is conducting an administrative review of the antidumping order on certain hot-rolled carbon steel flat products from India (hot-rolled carbon steel). This review covers four manufacturers and exporters (respondents) of the subject merchandise: Ispat, Tata, JSW, and Essar. The Department has preliminarily determined that during the period of review (POR), JSW made sales of subject merchandise at less than normal value (NV). The Department has also preliminarily determined that no dumping margin or a de minimis dumping margin exists for Ispat, Tata and Essar during the POR. If these preliminary results are adopted in the final results of this administrative review, we will instruct U.S. Customs and Border Protection (CBP) to assess antidumping duties on all appropriate entries of subject merchandise during the POR.

¹ The petitioners are Nucor Corporation (Nucor), Mittal Steel U.S.A. Inc., and United States Steel Corporation (U.S. Steel) (collectively, petitioners).

² Respondents are Ispat Industries Limited (Ispat), Essar Steel Limited (Essar), JSW Steel Limited (JSW), and Tata Steel Limited (Tata) (collectively, respondents).

EFFECTIVE DATE: December 31, 2007.

FOR FURTHER INFORMATION CONTACT: Christopher Hargett (Ispat), Joy Zhang (Tata), Stephanie Moore (JSW) or Victoria Cho (Essar), AD/CVD Operations Office 3, Import Administration, International Trade Administration, U.S. Department of Commerce, 14th Street and Constitution Avenue, NW, Washington, DC 20230; telephone: (202) 482-4161, (202) 482-1168, (202) 482-3692, and (202) 482-5075, respectively.

SUPPLEMENTARY INFORMATION:

Background

On December 3, 2001, the Department published in the Federal Register the antidumping duty order on hot-rolled carbon steel. See Notice of Amended Final Antidumping Duty Determination of Sales at Less Than Fair Value and Antidumping Duty Order: Certain Hot-Rolled Carbon Steel Flat Products from India, 66 FR 60194 (December 3, 2001) (Amended Final Determination). On December 1, 2006, the Department published in the Federal Register a notice of “Opportunity to Request Administrative Review” of the antidumping duty order on hot-rolled carbon steel. See Antidumping or Countervailing Duty Order, Finding, or Suspended Investigation; Opportunity To Request Administrative Review, 71 FR 69543 (December 1, 2006).

Petitioners requested a review of Essar. Ispat, Tata, Essar, and JSW self-requested a review of the antidumping duty order on hot-rolled carbon steel. On February 2, 2007, the Department published a notice of initiation of the administrative review of the antidumping duty order on hot-rolled carbon steel, covering the period December 1, 2005 to November 30, 2006. See Initiation of Antidumping and Countervailing Duty Administrative Reviews and Request for Revocation in Part, 72 FR 5005 (February 2, 2007).

On February 21, 2007, the Department issued an antidumping questionnaire to Ispat, Tata, JSW, and Essar. The Department received responses to the original questionnaires from Ispat, Tata, JSW, and Essar. The Department subsequently issued supplemental questionnaires to all parties and received responses to the same.

On August 30, 2007, the Department published a notice extending the time period for issuing the preliminary results of the administrative review from September 2, 2007, to December 19, 2007. See Certain Hot-Rolled Carbon Steel Flat Products from India: Extension of Time Limits for the Preliminary Results of Antidumping Duty Administrative Review, 72 FR 50098 (August 30, 2007).

Period of Review

The POR covered by this review is December 1, 2005, through November 30, 2006.

Scope of the Order

The merchandise subject to this order is hot-rolled carbon steel products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of this order.

Specifically included in the scope of this order are vacuum-degassed, fully stabilized (commonly referred to as interstitial-free (IF)) steels, high-strength low-alloy (HSLA) steels, and the substrate for motor lamination steels. IF steels are recognized as low-carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of this order, regardless of definitions in the Harmonized Tariff Schedule of the United States (HTS), are products in which: i) iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this order unless otherwise excluded. The following products, by way of example, are outside or specifically excluded from the scope of this order:

• Alloy hot-rolled carbon steel products in which at least one of the chemical elements exceeds those listed above (including, e.g., American Society for Testing and Materials (ASTM) specifications A543, A387, A514, A517, A506)).

• Society of Automotive Engineers (SAE)/American Iron & Steel Institute (AISI) grades of series 2300 and higher.

• Ball bearings steels, as defined in the HTS.

• Tool steels, as defined in the HTS.

• Silico-manganese (as defined in the HTS) or silicon electrical steel with a silicon level exceeding 2.25 percent.

• ASTM specifications A710 and A736.

• United States Steel (USS) Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTS.

The merchandise subject to this order is currently classifiable in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel covered by this order, including: vacuum-degassed fully stabilized; high-strength low-alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTS subheadings are provided for convenience and customs purposes, the Department's written description of the merchandise subject to this order is dispositive.

Affiliation

On June 13, 2007 and on October 31, 2007, Nucor alleged that JSW's ownership and affiliations, as part of the O.P. Jindal Group, are not accurately reflected on the record, and that JSW has a close-supplier and a debt financing relationship with another steel company that rises to the level of control.³ Therefore, Nucor argues that pursuant to section 771(33) of the Tariff Act of 1930, as amended (the Act), JSW has two affiliations, 1) JSW with the O.P. Jindal Group, and 2) JSW and another steel company.

³ Because the identity of this company, and related information, is business proprietary, see Memorandum to Melissa Skinner, Office Director, through James Terpstra from the Team regarding JSW Affiliation Issue (JSW Affiliation Memorandum), dated December 19, 2007, for a detailed discussion.

Regarding JSW's affiliations with the O.P. Jindal Group, information on the record shows that the group is comprised of nine business sectors headed by four brothers. JSW's financial statements and notes thereto list some of the other O.P. Jindal Group companies as related parties. Also, JSW submitted consolidated financial highlights of the Group. Thus, by virtue of the familial relationships of the companies' owners, they are affiliated under sections 771(33)(A) and (F) of the Act, as they are under the common control of a family group. See also 19 CFR 351.102.

Nucor claims that the Department should collapse JSW and the O.P. Jindal Group. See October 31, 2007, submission at page 14. The Department finds that the record facts do not provide a basis for collapsing JSW and other entities in the O.P. Jindal Group. Pursuant to 19 CFR 351.401, the Department collapses the operations of producers into a single entity when: 1) the producers are affiliated, 2) the producers have production facilities which would not require substantial retooling for producing similar or identical products, and 3) there is a significant potential for manipulation of price or production. In this instant case, the record shows that JSW is affiliated with the companies that comprise the O.P. Jindal Group, and is the only company in the group that produces and sells subject merchandise. The evidence on the record indicates that the other companies in the Group have production facilities which would require substantial retooling for producing similar or identical products. Accordingly, the criteria for collapsing JSW into the O.P. Jindal Group has not been satisfied. For these reasons, for purposes of the preliminary results, we are not treating JSW and the O.P. Jindal Group as a single entity. See Notice of Final Determination of Sales at Less Than Fair Value: Stainless Steel Wire Rod from Sweden, 63 FR 40449, 40452-54 (July 29, 1998).

In support of its allegations regarding the affiliation between JSW and another steel company, Nucor provides copies of newspaper articles referring to different transactions involving JSW, the other steel company and/or other parties. As discussed in detail in the JSW Affiliation Memorandum, we preliminary find that JSW is not affiliated with the other steel producer. We find that the articles submitted by Nucor do not establish that JSW and this company are affiliated. In accordance with 19 CFR 351.102(b), the Department may find that control exists when one person is legally or operationally in a position to exercise restraint or direction over the other person and the relationship has the potential to impact decisions concerning the production, pricing, or cost of the subject merchandise or foreign like product. Nucor has not clearly explained or provided sufficient information supporting the factual basis for a “close supplier relationship” or a “debt financing relationship,” or why such relationships would cause a finding of control. The standard is not whether one company might be in a position to become reliant upon another by means of their supplier-buyer relationship; rather the Department must find that a situation exists where the buyer has, in fact, become reliant on the seller, or vice versa. Only if we make such a finding can we address the issue of whether one of the parties is in a position to exercise restraint or direction over the other. See Certain Cold-Rolled and Corrosion-Resistant Carbon Steel Flat Products from Korea: Final Results of Antidumping Duty Administrative Reviews , 62 FR 18404, 18417 (April 15, 1997). The information on the record does not show that JSW is reliant upon the other steel company, or vice versa.

Product Comparisons

In accordance with section 771(16) of the Act, we considered all hot-rolled carbon steel produced by the respondents, covered by the scope of the order, and sold in the home market during the POR to be foreign like product for the purpose of determining appropriate product comparisons to hot-rolled carbon steel sold in the United States.

Where there were no sales in the ordinary course of trade of identical merchandise in the home market to compare to U.S. sales, we compared U.S. sales to the next most similar foreign like product on the basis of the characteristics listed in Appendix V of the Department's antidumping questionnaire. In making the product comparisons, we matched foreign like products based on the Appendix V physical characteristics reported by each respondent. Where sales were made in the home market on a different weight basis from the U.S. market (theoretical versus actual weight), we converted all quantities to the same weight basis, using the conversion factors supplied by the respondents, before making our fair-value comparisons.

Fair Value Comparisons

To determine whether sales of hot-rolled carbon steel by the respondents to the United States were made at less than NV, we compared the constructed export price (CEP) or export price (EP) to the NV, as described in the “Constructed Export Price/Export Price” and “Normal Value” sections of this notice. In accordance with section 777A(d)(2) of the Act, we calculated monthly weighted-average prices for NV and compared these to individual U.S. transactions.

Export Price/Constructed Export Price

Section 772(a) of the Act defines EP as “the price at which the subject merchandise is first sold (or agreed to be sold) before the date of importation by the producer or exporter of the subject merchandise outside of the United States to an unaffiliated purchaser in the United States or to an unaffiliated purchaser for exportation to the United States, as adjusted under subsection (c).” During the POR, Ispat, JSW and Essar produced and sold subject merchandise to the first unaffiliated purchaser in the United States prior to importation. For these sales of subject merchandise, we have applied the EP methodology.

Section 772(b) of the Act defines CEP as “the price at which the subject merchandise is first sold (or agreed to be sold) in the United States before or after the date of importation by or for the account of the producer or exporter of such merchandise or by a seller affiliated with the producer or exporter, to a purchaser not affiliated with the producer or exporter, as adjusted under subsections (c) and (d).” During the POR, Tata and Essar also had CEP sales because, through their affiliates in the United States, they sold subject merchandise to the first unaffiliated purchaser in the United States after the date of importation of the merchandise. Thus, we have applied the CEP methodology to these sales.

We based EP and CEP on the packed price to unaffiliated purchasers in the United States. We made deductions, as appropriate, for billing adjustments. We also made deductions for movement expenses in accordance with section 772(c)(2)(A) of the Act. Accordingly, we made deductions for foreign inland freight, foreign inland insurance, foreign brokerage and handling, international freight, U.S. brokerage and handling, and U.S. customs duties. In addition, in accordance with section 772(c)(1)(C) of the Act, when appropriate, we increased EP or CEP, by an amount equal to the countervailing duty rate attributed to export subsidies in the most recently completed administrative review of the countervailing duty order applicable to the POR for Ispat and Essar. For JSW and Tata, we used the countrywide rate from the investigation.

In accordance with section 772(d)(1) of the Act and the SAA at 823-824,⁴ we deducted from the CEP the selling expenses associated with economic activities occurring in the United States, which consisted of credit expenses and commissions. In accordance with section 772(d)(1) of the Act, we also deducted indirect selling expenses associated with economic activities occurring in the United States. Pursuant to section 772(d)(3) of the Act, we made an adjustment for CEP profit.

⁴ See the Statement of Administrative Action accompanying the Uruguay Round Agreements Act (SAA), H. R. Doc. No. 103-316, vol. 1 (1994).

Normal Value

Based on a comparison of the aggregate quantity of home market and U.S. sales, we determined that the quantity of the foreign like product sold by each respondent in the exporting country was sufficient to permit a proper comparison with the sales of the subject merchandise to the United States, pursuant to section 773(a) of the Act. Therefore, in accordance with section 773(a)(1)(B)(i) of the Act, we based NV on the price at which the foreign like product was first sold for consumption in the home market, in the usual commercial quantities and in the ordinary course of trade.

Where appropriate, in accordance with section 773(a)(6)(B) of the Act, we deducted from the starting price inland freight (offset, where applicable, by freight revenue), inland insurance, and packing. Pursuant to 19 CFR 351.401(c), we deducted rebates and discounts. We also increased NV by U.S. packing costs in accordance with section 773(a)(6)(A) of the Act. For comparisons to EP, pursuant to section 773(a)(6)(C)(iii) of the Act and 19 CFR 351.410(b), we made circumstance-of-sale adjustments for credit expenses, bank charges and commissions. In accordance with section 773(a)(1)(B)(i) of the Act, we based NV on sales at the same level of trade as the EP. See the “Level of Trade” section below.

For purposes of calculating NV, section 771(16) of the Act defines “foreign like product” as merchandise which is either (1) identical or (2) similar to the merchandise sold in the United States. When there are no identical products sold in the home market, the products which are most similar to the product sold in the United States are identified. For the non-identical or most similar products which are identified based on the Department's product matching criteria, an adjustment is made to the home market sales price to account for the actual physical differences between the products sold in the United States and the home market. See section 773(a)(6)(C)(ii) of the Act and 19 CFR 351.411.

Level of Trade

In accordance with section 773(a)(1)(B) of the Act, we determined NV based on sales in the comparison market at the same level of trade (LOT) as the CEP/EP sales, to the extent practicable. When there were no sales at the same LOT, we compared U.S. sales to comparison market sales at a different LOT.

Pursuant to 19 CFR 351.412, to determine whether CEP/EP sales and NV sales were at different LOTs, we examine stages in the marketing process and selling functions along the chain of distribution between the producer and the customers. If the comparison market sales are at a different LOT and the differences affect price comparability, as manifested in a pattern of consistent price differences between sales at different LOTs in the country in which NV is determined, we will make an LOT adjustment under section 773(a)(7)(A) of the Act. For CEP sales, if the NV LOT is at a more advanced stage of distribution than the CEP LOT and the data available do not provide an appropriate basis to determine an LOT adjustment, we will grant a CEP offset, as provided in section 773(a)(7)(B) of the Act. See Notice of Final Determination of Sales at Less Than Fair Value: Certain Cut-to-Length Carbon Steel Plate from South Africa, 62 FR 61731, 61732-33 (November 19, 1997).

Essar, Ispat, Tata, and JSW each reported different channels of distribution in the home market; however, based on our analysis of the selling functions performed for each channel, we found one level of trade for each. For a detailed description of our LOT methodology and a summary of company-specific LOT findings for these preliminary results, see the December 19, 2007, Preliminary Sales Calculation Memorandum for Ispat (Calculation Memorandum for Ispat); Preliminary Sales Calculation Memorandum for Tata (Calculation Memorandum for Tata); Preliminary Sales Calculation Memorandum for JSW Steel Limited (Calculation Memorandum for JSW), and Preliminary Sales Calculation Memorandum for Essar (Calculation Memorandum for Essar), the public versions of which are on file in the Central Records Unit (CRU), Room B-099 of the main Department building.

Based on these findings, we did not make an LOT adjustment under section 773(a)(7)(A) of the Act and 19 CFR 351.412(e) because, as there was only one home market LOT for each respondent, we were unable to identify a pattern of consistent price differences attributable to differences in LOTs (see 19 CFR 351.412(d)). Under 19 CFR 351.412(f), we are preliminarily granting a CEP offset for Tata and Essar because the NV is at a more advanced LOT than the LOT for its U.S. CEP sales.

Cost of Production (COP)

A. Calculation of COP

In the most recently completed administrative reviews in which Essar and Ispat participated, the Department determined that Essar and Ispat sold foreign like product at prices below the cost of producing the merchandise and excluded such sales from the calculation of NV. For Essar, see Certain Hot-Rolled Carbon Steel Flat Products From India: Preliminary Results of Antidumping Duty Administrative Review, 71 FR 2018 (January 12, 2006) unchanged in the final results, Certain Hot-Rolled Carbon Steel Flat Products From India: Final Results of Antidumping Duty Administrative Review, 71 FR 40694 (July 18, 2006). For Ispat, see Notice of Preliminary Determination of Sales at Less Than Fair Value and Postponement of Final Determination: Certain Hot-Rolled Carbon Steel Flat Products from India, 66 FR 22157 (May 3, 2001), unchanged in the final results, Notice of Final Determination of Sales at Less Than Fair Value: Certain Hot-Rolled Carbon Steel Flat Products From India, 66 FR 50406 (October 3, 2001). As a result, the Department determined that there are reasonable grounds to believe or suspect that during the instant POR, Essar and Ispat sold foreign like product at prices below the cost of producing the merchandise. See section 773(b)(2)(A)(ii) of the Act. Therefore, the Department initiated a sales-below-cost inquiry with respect to Essar and Ispat.

We calculated a company-specific COP for Essar and Ispat based on the sum of each Essar's and Ispat's cost of materials and fabrication for the foreign like product, plus amounts for home-market selling expenses, selling, general and administrative expenses (SG&A), and packing costs in accordance with section 773(b)(3) of the Act. We relied on Essar's and Ispat's information as submitted.

B. Test of Home-Market Prices

In determining whether to disregard home market sales made at prices below the COP, as required under sections 773(b)(1)(A) and (B) of the Act, we compared the weighted-average COP to home market sales of the foreign like product and we examined whether (1) within an extended period of time, such sales were made in substantial quantities, and (2) such sales were made at prices which permitted the recovery of all costs within a reasonable period of time. On a product-specific basis, we compared the COP to the home market prices (not including VAT), less any applicable movement charges, discounts, and rebates.

C. Results of COP Test

Pursuant to section 773(b)(1) of the Act, we may disregard below-COP sales in the determination of NV if these sales have been made within an extended period of time in substantial quantities and were not at prices which permit recovery of all costs within a reasonable period of time. Where 20 percent or more of a respondent's sales of a given product during the POR were at prices less than the COP for at least six months of the POR, we determined that sales of that model were made in “substantial quantities” within an extended period of time, in accordance with sections 773(b)(2)(B) and (C) of the Act. Where prices of a respondent's sales of a given product were below the per-unit COP at the time of sale and below the weighted-average per-unit costs for the POR, we determined that sales were not at prices which would permit recovery of all costs within a reasonable period of time, in accordance with section 773(b)(2)(D) of the Act. In such cases, we disregarded the below-cost sales in accordance with section 773(b)(1) of the Act.

Pursuant to section 773(b)(2)(C) of the Act, where less than 20 percent of a respondent's sales of a given product were at prices less than the COP, we did not disregard any below-cost sales of that product because we determined that the below-cost sales were not made in “substantial quantities.”

We tested and identified below-cost home market sales for Ispat and Essar. We disregarded individual below-cost sales of a given product and used the remaining sales as the basis for determining NV, in accordance with section 773(b)(1) of the Act. See Calculation Memorandum for Ispat and the Calculation Memorandum for Essar.

Arm's-Length Sales

Tata and Essar reported that they made sales of the foreign like product in the home market to affiliated parties. The Department calculates NV based on a sale to an affiliated party only if it is satisfied that the price to the affiliated party is comparable to the price at which sales are made to parties not affiliated with the producer or exporter, i.e., sales at arm's length. See 19 CFR 351.403(c).

To test whether these sales were made at arm's length, we compared the starting prices of sales to affiliated and unaffiliated customers net of all movement charges, direct selling expenses, discounts and packing. In accordance with the Department's current practice, if the prices charged to an affiliated party were, on average, between 98 and 102 percent of the prices charged to unaffiliated parties for merchandise identical or most similar to that sold to the affiliated party, we considered the sales to be at arm's-length prices. See Notice of Preliminary Results and Partial Rescission of Antidumping Duty Administrative Review: Ninth Administrative Review of the Antidumping Duty Order on Certain Pasta from Italy, 71 FR 45017, 45020 (August 8, 2006), and unchanged in the final results. See Notice of Final Results of the Ninth Administrative Review of the Antidumping Duty Order on Certain Pasta from Italy, 72 FR 7011 (February 14, 2007); 19 CFR 351.403(c). Conversely, where we found sales to the affiliated party that did not pass the arm's-length test, all sales to that affiliated party have been excluded from the NV calculation. See Antidumping Proceedings: Affiliated Party Sales in the Ordinary Course of Trade, 67 FR 69186, 69187 (November 15, 2002).

Currency Conversion

For purposes of these preliminary results, we made currency conversions in accordance with section 773A(a) of the Act, based on the official exchange rates published by the Federal Reserve Bank.

Preliminary Results of the Review

As a result of this review, we preliminarily find that the following weighted-average dumping margins exist:

Producer/Manufacturer | Weighted-Average Margin
Ispat | 0.00 %%
Tata | 0.24 %%
JSW | 37.01 %%
Essar | 0.00 %%

The Department will disclose calculations performed within five days of the date of publication of this notice to the parties of this proceeding in accordance with 19 CFR 351.224(b). Interested parties may submit case briefs and/or written comments no later than 30 days after the date of publication of these preliminary results of review. See 19 CFR 351.309(c)(ii). Rebuttal briefs are limited to issues raised in such briefs or comments and may be filed no later than five days after the time limit for filing the case briefs or comments. See 19 CFR 351.309(d). Parties submitting arguments in this proceeding are requested to submit with the argument: 1) a statement of the issue, 2) a brief summary of the argument, and 3) a table of authorities. See 19 CFR 351.309(c)(2) and (d)(2). Case and rebuttal briefs and comments must be served on interested parties in accordance with 19 CFR 351.303(f). Further, parties submitting written comments are requested to provide the Department with an additional copy of the public version of any such comments on a diskette.

An interested party may request a hearing within 30 days of publication of these preliminary results. See 19 CFR 351.310(c). A hearing, if requested, ordinarily will be held two days after the due date of the rebuttal briefs. The Department will issue the final results of this administrative review, which will include the results of its analysis of issues raised in the written comments, or at a hearing, if requested, within 120 days of publication of these preliminary results.

Assessment Rate

Upon completion of this administrative review, the Department shall determine, and CBP shall assess, antidumping duties on all appropriate entries, in accordance with 19 CFR 351.212. The Department intends to issue assessment instructions to CBP 15 days after the date of publication of the final results of this review. The Department clarified its “automatic assessment” regulation on May 6, 2003. See Antidumping and Countervailing Duty Proceedings: Assessment of Antidumping Duties, 68 FR 23954 (May 6, 2003) (Assessment Policy Notice). This clarification will apply to entries of subject merchandise during the POR produced by companies included in the final results of review for which the reviewed companies did not know that the merchandise they sold to the intermediary (e.g., a reseller, trading company, or exporter) was destined for the United States. In such instances, we will instruct CBP to liquidate unreviewed entries at the “all-others” rate if there is no rate for an intermediary involved in the transaction. See Assessment Policy Notice for a full discussion of this clarification.

Cash Deposit Requirements

To calculate the cash deposit rate for each producer and/or exporter included in this administrative review, we divided the total dumping margins for each company by the total net value for that company's sales during the review period.

The following deposit rates will be effective upon publication of the final results of this administrative review for all shipments of hot-rolled carbon steel from India entered, or withdrawn from warehouse, for consumption on or after the publication date, as provided by section 751(a)(2)(C) of the Act: (1) The cash deposit rates for the companies listed above will be the rates established in the final results of this review, except if the rate is less than 0.5 percent and, therefore, de minimis, the cash deposit will be zero; (2) for previously reviewed or investigated companies not listed above, the cash deposit rate will continue to be the company-specific rate published for the most recent final results in which that manufacturer or exporter participated; (3) if the exporter is not a firm covered in these reviews, a prior review, or the original less-than-fair-value (LTFV) investigation, but the manufacturer is, the cash deposit rate will be the rate established for the most recent final results for the manufacturer of the merchandise; and (4) if neither the exporter nor the manufacturer is a firm covered in this or any previous review or the LTFV conducted by the Department, the cash deposit rate will be 38.72 percent, the “all-others” rate established in the LTFV. See Amended Final Determination. These cash deposit requirements, when imposed, shall remain in effect until further notice.

Verification

The Department intends to conduct sales verifications after these preliminary results for Ispat, Tata, and JSW.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These preliminary results of review are issued and published in accordance with sections 751(a)(1) and 777(i)(1) of the Act.

Dated: December 19, 2007.
David M. Spooner,
Assistant Secretary for Import Administration.

[FR Doc. E7-25397 Filed 12-28-07; 8:45 am]

BILLING CODE 3510-DS-S